DEPARTMENT OF HOMELAND SECURITY

Federal Emergency Management Agency

Open Meeting, Advisory Committee for the National Urban Search and Rescue Response System

AGENCY: Federal Emergency Management Agency, Emergency Preparedness and Response Directorate (EP&R), Department of Homeland Security.

ACTION: Notice of open meeting.

SUMMARY: In accordance with section 10(a)(2) of the Federal Advisory Committee Act (Pub. L. 92-463, 5 U.S.C. App.), we, EP&R, announce the following committee meeting:

Name: National Urban Search and Rescue Response System Advisory Committee.

Date of Meeting: April 30-May 1, 2003.

Place: Holiday Inn Capital, 550 C Street, Apollo Room, Washington, DC 20024.

Time: April 30: 8 a.m.-4 p.m.

May 1: 8 a.m.-4 p.m.

Proposed Agenda: The Committee will receive a program update that will address the status of ongoing program activities, including recent training and exercises. The committee will consider current and future program requirements and will make recommendations for budget allocations and requests for Fiscal Years 2004 and 2005. The Committee will also discuss urban search and rescue task force operational status and transportation issues. The Committee will review the current status of proposed urban search and rescue regulations and system documentation revisions. Finally, the committee will review priorities for its subordinate working groups for the remainder of Fiscal Year 2003.

The meeting will be open to the public, with approximately 20 seats available on a first-come, first-served basis. All members of the public interested in attending should contact Michael Tamillow at 202-646-3498.

We will prepare minutes of the meeting and will make them available for public viewing at the Emergency Preparedness and Response Directorate, Preparedness Division, Urban Search and Rescue (US&R), 500 C Street, SW., Room 326, Washington, DC 20472. Copies of the minutes will be available upon request 30 days after the meeting.

Dated: April 15, 2003.
Michael D. Brown,
Undersecretary, Emergency Preparedness and Response.

[FR Doc. 03-9868 Filed 4-21-03; 8:45 am]

BILLING CODE 6718-06-P